ENVIRONMENTAL PROTECTION AGENCY

[EPA-HQ-OPPT-2017-0692; FRL-9988-64-OMS]

Information Collection Request Submitted to OMB for Review and Approval; Comment Request; Lead Training, Certification, Accreditation and Authorization Activities (Renewal)

AGENCY: Environmental Protection Agency (EPA).

ACTION: Notice.

SUMMARY: The Environmental Protection Agency (EPA) has submitted the following information collection request (ICR), Lead Training, Certification, Accreditation and Authorization Activities (EPA ICR Number 2507.03, OMB Control Number 2070-0195) to the Office of Management and Budget (OMB) for review and approval in accordance with the Paperwork Reduction Act (PRA). This is a proposed extension of the ICR, which is currently approved through August 31, 2019. Public comments were previously requested via the Federal Register on July 31, 2018. This notice allows for an additional 30 days for public comments. A fuller description of the ICR is given below, including its estimated burden and cost to the public. An agency may not conduct or sponsor and a person is not required to respond to a collection of information unless it displays a currently valid OMB control number.

DATES: Additional comments may be submitted on or before July 31, 2019.

ADDRESSES: Submit your comments, referencing Docket ID Number EPA-HQ-OPPT-2017-0692, to (1) EPA online using www.regulations.gov (our preferred method) or by mail to: EPA Docket Center, Environmental Protection Agency, Mail Code 28221T, 1200 Pennsylvania Ave. NW, Washington, DC 20460, and (2) OMB via email to oira_submission@omb.eop.gov.

Address comments to OMB Desk Officer for EPA. EPA's policy is that all comments received will be included in the public docket without change including any personal information provided, unless the comment includes profanity, threats, information claimed to be Confidential Business Information (CBI) or other information whose disclosure is restricted by statute. Do not submit electronically any information you consider to be CBI or other information whose disclosure is restricted by statute.

FOR FURTHER INFORMATION CONTACT: For technical information, contact John Yowell, National Program Chemicals Division, (7404T), Office of Pollution Prevention and Toxics, Environmental Protection Agency, 1200 Pennsylvania Ave. NW, Washington, DC 20460-0001; telephone number: (202) 564-1213; email address: yowell.john@epa.gov. For general information, contact the TSCA-Hotline, ABVI-Goodwill, 422 South Clinton Ave., Rochester, NY 14620; telephone number: (202) 554-1404; email address: TSCA-Hotline@epa.gov.

SUPPLEMENTARY INFORMATION: Supporting documents, which explain in detail the information that the EPA will be collecting, are available in the public docket for this ICR. The docket can be viewed online at https://www.regulations.gov or in person at the EPA Docket Center, West William Jefferson Clinton Bldg., Room 3334, 1301 Constitution Ave. NW, Washington, DC. The telephone number for the Docket Center is 202-566-1744. For additional information about EPA's public docket, visit https://www.epa.gov/dockets.

Abstract: This is a request to renew the approval of an information collection involving third-party notification, required under section 406(b) of the Toxic Substances Control Act (TSCA), to owners and occupants of housing—informing them about the dangers of lead-contaminated dust and paint debris that are sometimes generated during renovations of housing where lead-based paint is present. Section 406(b) of TSCA requires EPA to promulgate regulations requiring certain persons who perform renovations for compensation on target housing to provide a lead hazard information pamphlet (developed under TSCA section 406(a)) to the owner and occupants of such housing prior to beginning the renovation. Further, the firm performing the renovation must keep records acknowledging receipt of the pamphlet on file for three years after completion of work. Those who fail to provide the pamphlet or keep records as required may be subject to both civil and criminal sanctions.

This information collection also addresses the reporting and recordkeeping requirements for individuals or firms conducting lead-based paint activities or renovation in or on houses, apartments, or child-occupied facilities built before 1978, under the authority of sections 402 and 404 of TSCA. These sections and their implementing regulations require EPA to develop and administer a training and certification program as well as work practice standards for persons who perform lead-based paint activities or renovations. With respect to target housing or child-occupied facilities, 40 CFR part 745, subpart E, covers work practice standards, recordkeeping and reporting requirements, individual and firm certification, and enforcement for renovations while 40 CFR part 745, subpart L, covers inspections, lead hazard screens, risk assessments, and abatement activities. 40 CFR part 745, subpart Q, establishes the requirements that state or tribal programs must meet for authorization to administer the standards, regulations, or other requirements established under TSCA Section 402.

Respondents may claim all or part of a document confidential. EPA will disclose information that is covered by a claim of confidentiality only to the extent permitted by, and in accordance with, the procedures in TSCA section 14 and 40 CFR part 2.

Form Numbers: 8500-25; 8500-27; 747-B-99-002.

Respondents/affected entities: Entities potentially affected by this ICR include persons who are engaged in lead-based paint activities and/or perform renovations of target housing or child-occupied facilities for compensation, dust sampling, or dust testing; or who perform lead-based paint inspections, lead hazard screens, risk assessments or abatements in target housing or child-occupied facilities; or who provide training or operate a training program for individuals who perform any of these activities; or state, territorial or tribal agencies that administer lead-based paint activities and/or renovation programs.

Respondent's obligation to respond: Mandatory (40 CFR part 745).

Estimated number of respondents: 770,564 (total).

Frequency of response: On occasion.

Total estimated burden: 5,251,320 hours (per year). Burden is defined at 5 CFR 1320.3(b).

Total estimated cost: $303,099,637 (per year), includes $15,274,835 annualized capital or operation & maintenance costs.

Changes in the Estimates: There is a decrease of 1,211,977 hours in the total estimated respondent burden compared with the ICR currently approved by OMB. This change reflects decreases to the estimated number of respondents based on the number of respondents reporting to EPA for the prior information collection as well as changes in the number of events for certain paperwork activities based on market factors. In addition, the renewal ICR presents estimated annualized capital or operation & maintenance costs of approximately $15,274,835. These costs were inadvertently excluded from the Agency's estimates in the existing ICR.

Courtney Kerwin,
Director, Regulatory Support Division.

[FR Doc. 2019-13920 Filed 6-28-19; 8:45 am]

BILLING CODE 6560-50-P